POSTAL SERVICE

International Product Change—International Business Reply Service Contracts

AGENCY: Postal Service™.

ACTION: Notice.

SUMMARY: Postal Service gives notice of filing a request with the Postal Regulatory Commission to add International Business Reply Service Contracts to the Competitive Products List pursuant to 39 U.S.C. 3642.

DATES: February 5, 2009.

FOR FURTHER INFORMATION CONTACT: Margaret M. Falwell, 703-292-3576.

SUPPLEMENTARY INFORMATION: The United States Postal Service® hereby gives notice that it has filed with the Postal Regulatory Commission a Request of United States Postal Service To Add International Business Reply Service Contracts to the Competitive Products List, and Notice of Filing Contract (Under Seal) Contract and Enabling Governors' Decision. Documents are available at http://www.prc.gov, Docket Nos. MC2009-14 and CP2009-20.

Neva R. Watson,
Attorney, Legislative.

[FR Doc. E9-2420 Filed 2-4-09; 8:45 am]

BILLING CODE 7710-12-P